DEPARTMENT OF HOMELAND SECURITY

Technical Assistance Request and Evaluation

AGENCY: Emergency Communications Division (ECD), Cybersecurity and Infrastructure Security Agency (CISA), Department of Homeland Security (DHS).

ACTION: 30-Day notice and request for comments; Extension, 1670-0023.

SUMMARY: DHS CISA ECD will submit the following Information Collection Request (ICR) to the Office of Management and Budget (OMB) for review and clearance in accordance with the Paperwork Reduction Act of 1995. DHS previously published this ICR in the Federal Register on Tuesday, October 9, 2018 at 83 FR 50675 for a 60-day public comment period. 0 comments were received by DHS. The purpose of this notice is to allow an additional 30 days for public comments. To provide greater transparency, CISA is making an adjustment from the 60 day notice to show all related costs in the 30 day notice.

DATES: Comments are encouraged and will be accepted until March 18, 2019.

ADDRESSES: Interested persons are invited to submit written comments on the proposed information collection to the Office of Information and Regulatory Affairs, Office of Management and Budget. Comments should be addressed to OMB Desk Officer, Department of Homeland Security and sent via electronic mail to dhsdeskofficer@omb.eop.gov. All submissions must include the words “Department of Homeland Security” and the OMB Control Number 1670-0023—Technical Assistance Request and Evaluation.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Kendall Carpenter at 703.705.6376 or at Kendall.Carpenter@HQ.DHS.GOV.

SUPPLEMENTARY INFORMATION: The Emergency Communications Division (ECD) formed under Title XVIII of the Homeland Security Act of 2002, 6 U.S.C. 571 et seq., as amended, provides emergency communications-related technical assistance at no charge to State, regional, local, and tribal government officials. To receive this technical assistance, stakeholders must submit a request form identifying their priorities. In order for ECD to assess the value of the services it provides through technical assistance, an evaluation form is also requested of those receiving technical assistance.

ECD uses the Technical Assistance Request Form (DHS Form 9043) to identify the number and type of technical assistance services needed by the State, territory, local, and tribal agencies. This information enables ECD to plan and align resources accordingly. ECD considers each request based on the priority indicated by the State, as well as the anticipated impact of the service offering on the implementation of the Statewide Communications Interoperability Plan (SCIP) and the applicability to National Emergency Communications Plan (NECP). The evaluation form (DHS Form 9042) is completed by stakeholders at the completion of ECD technical assistance services and enables ECD to assess the quality of technical assistance services provided and, in a holistic fashion, measure the value of the services. The information collected through these evaluations is used by ECD for continued improvement planning.

Approximately 100 percent of request and evaluation forms are submitted electronically by logging into the portal at https://www.dhs.gov/ictapscip-resources. From the website, users are able to select the appropriate form, either the Technical Assistance Requests (DHS Form 9043) and/or the TA Evaluation forms (DHS Form 9042), to complete as a fillable PDF. Each form is then submitted by email to either TARequest@hq.dhs.gov or TAevaluations@hq.dhs.gov, respectively.

The changes to the collection since the previous OMB approval include: updating the web address, decreasing the estimated number of responses, decreasing the burden time, and increasing the cost estimates.

This is a renewal of an information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Technical Assistance Request and Evaluation.

OMB Control Number: 1670-0023.

Frequency: Annually.

Affected Public: State, Local, Tribal, and Territorial Governments.

Number of Annualized Respondents: 175.

Estimated Time per Respondent: 0.25 hours.

Total Annualized Burden Hours: 50 hours.

Total Annualized Respondent Opportunity Cost: $2,072.

Total Annualized Respondent Out-of-Pocket Cost: $0.

Total Annualized Government Cost: $3,697.

Scott Libby,
Deputy Chief Information Officer.

[FR Doc. 2019-02569 Filed 2-14-19; 8:45 am]

BILLING CODE 9110-9P-P